TENNESSEE VALLEY AUTHORITY

Paperwork Reduction Act of 1995, as Amended by Public Law 104-13; Submission for OMB Review; Comment Request

AGENCY: Tennessee Valley Authority.

ACTION: Proposed collection; comment request.

SUMMARY: The proposed information collection described below will be submitted to the Office of Management and Budget (OMB) for review, as required by the Paperwork Reduction Act of 1995 (44 U.S.C Chapter 35, as amended). The Tennessee Valley Authority is soliciting public comments on this proposed collection as provided by 5 CFR 1320.8(d)(1). Requests for information, including copies of the information collection proposed and supporting documentation, should be directed to the Agency Clearance Officer: Mark R. Winter, Tennessee Valley Authority, 1101 Market Street (MP 3C), Chattanooga, Tennessee 37402-2801; (423) 751-6004.

DATES: Comments should be sent to the Agency Clearance Officer no later than July 28, 2008.

SUPPLEMENTARY INFORMATION: Type of Request: Regular Submission; extension without change, of a currently approved collection.

Title of Information Collection: Reservoir Operations Study (ROS)—Recreation User Data.

Frequency of Use: Annually.

Type of Affected Public: Individual recreation users at public and commercial recreation areas and recreation users from private waterfront homes.

Small Business or Organizations Affected: No.

Estimated Number of Annual Responses: 3000.

Estimated Total Annual Burden Hours: 990.

Estimated Average Burden Hours Per Response: .33 hour.

Need For and Use of Information: As part of system wide re-evaluation of TVA reservoirs and tailwaters, TVA conducted a survey of recreation use on 13 representative reservoirs and 6 representative tailwaters during calendar year 2002. Recreation use estimates were made for public use areas, commercial marinas, river outfitters, and private home owners. In each case, information was collected on the amount of recreation use, length of stay, facility preference, trip origin, expenditures and economic impact.

These data now form the foundation for a TVA reservoir and tailwater recreation database. TVA recognizes the value of this database and proposes to keep it up-to-date and improving its utility by refining the survey design and conducting additional surveys of recreational use on representative reservoirs and tailwaters.

Janice W. McAllister,
Senior Manager, Enterprise IT Security, Information Services.

[FR Doc. E8-11830 Filed 5-27-08; 8:45 am]

BILLING CODE 8120-08-P